DEPARTMENT OF DEFENSE

Office of the Secretary of Defense

Disestablishment of Department of Defense Federal Advisory Committees

AGENCY: DoD.

ACTION: Disestablishment of Federal Advisory Committees.

SUMMARY: Under the provisions of the Federal Advisory Committee Act of 1972 (5 U.S.C. Appendix, as amended), and the Government in the Sunshine Act of 1976 (5 U.S.C. 552b, as amended), the Department of Defense gives notice that it is disestablishing the Department of Defense Retirement Board of Actuaries and the Department of Defense Education Benefits Board of Actuaries.

The Department of Defense Retirement Board of Actuaries and the Department of Defense Education Benefits Board of Actuaries are non-discretionary Federal advisory committees that are being disestablished pursuant to section 906(b) of Public Law 110-181. The responsibilities of both advisory committees will continue; however, they will be done by the Department of Defense Board of Actuaries, which was authorized by section 906(a) of Public Law 110-181.

FOR FURTHER INFORMATION CONTACT: Jim Freeman, Deputy Committee Management Officer for the Department of Defense, 703-601-2554, extension 128.

Dated: February 19, 2008.
L.M. Bynum,
Alternate OSD Federal Register Liaison Officer, Department of Defense.

[FR Doc. E8-3605 Filed 2-25-08; 8:45 am]

BILLING CODE 5001-06-P